DEPARTMENT OF THE INTERIOR

Bureau of Land Management

[UT-912-03-1210-PG-24-1A]

Notice of Resource Advisory Council Meetings and Field Tour

AGENCY: Bureau of Land Management, Department of Interior.

ACTION: Notice of Utah Resource Advisory Council (RAC) Meeting.

SUMMARY: In accordance with the Federal Land Policy and Management Act (FLPMA) and the Federal Advisory Committee Act of 1972 (FACA), the U.S. Department of the Interior, Bureau of Land Management (BLM) Utah Resource Advisory Council (RAC) will meet as indicated below.

DATES: the first meeting will be held July 15-16, 2003, at the Westin Hotel, 1684 West Hwy 40, Vernal, UT, beginning at 8 a.m. on July 15 and concluding at 2 p.m. on July 16. A public comment period will begin at 1:30 p.m. and conclude at 2 p.m. on July 16. Written comments may be sent to the bureau of Land management address listed below. A follow-up meeting is scheduled for September 9-10, at the Airport Hilton Hotel, 5151 Wiley Post Way, Salt Lake City, Utah. the meeting will begin at 8 a.m. on September 9 and conclude at noon on September 10.

FOR FURTHER INFORMATION CONTACT: Sherry Foot, Special Programs coordinator, Utah State Office, Bureau of Land Management, 324 South State Street, Salt lake City, Utah, 84111; phone (801) 539-4195.

SUPPLEMENTARY INFORMATION: On July 15, a filed trip is planned south of Vernal. Discussion points and focus will be oil and gas operations; white-tailed prairie dog management; black footed ferrets; raptor management in the context of oil and gas development; recreation (sightseeing, interpretation, warm water game fishing); OHV use; drought; Wildland Urban Interface and hazard reduction. On July 16, a working meeting will be held to discuss the reports from the raptor, OHV, and the San Rafael subgroups; a presentation, along with a discussion, on the Sustainable Working landscapes, Initiative; and an overview of the National Fire Plan along with fire updates.

On September 9-10, 2003, the Council will provide their advice and recommendations regarding the preliminary draft Sustainable Working Landscape policy.

All meetings are open to the public; however, transportation, lodging, and meals are the responsibility of the participating public.

Dated: June 19, 2003.
Gene Terland,
Assoc. State Director.

[FR Doc. 03-15990 Filed 6-24-03; 8:45 am]

BILLING CODE 4310-$$-M